DEPARTMENT OF DEFENSE

Department of the Army, Corps of Engineers

Availability of a Tiered Final Environmental Impact Statement Containing a Draft Air Quality General Conformity Determination for the Proposed Construction of a Dredged Material Containment Facility in the Patapsco River, at Masonville, Baltimore City, MD

AGENCY: Department of the Army, U.S. Army Corps of Engineers, DOD.

ACTION: Notice of availability.

SUMMARY: In accordance with requirements of the National Environmental Policy Act (NEPA), the U.S. Army Corps of Engineers (USACE), Baltimore District, has prepared a Final Environmental Impact Statement (FEIS) for the proposed construction of a dredged material containment facility (DMCF) by the Maryland Port Administration (MPA). This FEIS was prepared as part of the submission of MPA's application for a Department of the Army permit to construct the facility in the Patapsco River, Baltimore City, MD. This application will be evaluated pursuant to Section 10 of the Rivers and Harbors Act of 1899 and Section 404 of the Clean Water Act.

The preferred alternative is for the construction of a stone, sand, and cofferdam structure that would impact approximately 131 acres of waters of the United States, including jurisdictional wetlands. The structure would be initially constructed to 10 feet above the mean lower low water (MLLW) elevation, with a future temporary elevation to 42 feet above MLLW, and an ultimate elevation of 36 feet above MLLW. The project would also include mechanical dredging of approximately 1.5 million cubic yards of overburden material within the footprint of the proposed disposal site, and the placement of this material at the Hart Miller Island disposal site, Baltimore County, MD. On-site (Masonville borrow) and offsite borrow material (Seagirt borrow material and upland borrow) would be used for the construction of the containment facility. The Seagirt borrow material would come from the Seagirt Marine Terminal Access Channel deepening and widening project. The Draft EIS was advertised in the Federal Register on May 19, 2006 (71 FR 29128). A supplement to the Draft EIS was advertised in the Federal Register on June 30, 2006 (71 FR 37545). The need to prepare a Supplement was due to the applicant's proposal to change the source of borrow material for the proposed construction of the preferred alternative to include the use of suitable material dredged from the Seagirt Marine Terminal Access Channels. The FEIS evaluates the construction of a DMCF with a footprint of 141 acres, which includes 131 acres of tidal open water and wetlands. The DMCF would be constructed to an initial height of 10 feet above MLLW and then raised to a height of 42 feet above MLLW before being graded to a final height of 36 feet MLLW, which would be the same height as the adjacent land. A detailed description of the proposed project and effects to the human environment are discussed in the FEIS for the Masonville DMCF. The FEIS outlines measures the applicant may implement to address impacts to air quality resulting from activities described in the permit application.

ADDRESSES: Please send written comments to the U.S. Army Corps of Engineers, Baltimore District, Attn: Mr. Jon Romeo, CENAB-OP-RMN, P.O. Box 1715, Baltimore, MD 21203-1715. You may submit electronic comments to jon.romeo@usace.army.mil. Your comments must be contained in the body of your message; please do not send attached filed. Please include your name and address in your message.

FOR FURTHER INFORMATION PLEASE CONTACT: Mr. Jon Romeo, (410) 962-6079.

SUPPLEMENTARY INFORMATION: The FEIS integrates analyses and consultation required by the National Environmental Policy Act (NEPA), Section 10 of the Rivers and Harbors Act of 1899, Section 401 and Section 404 of the Clean Water Act, Section 7 of the Endangered Species Act, the Clean Air Act, the U.S. Fish and Wildlife Coordination Act, Section 106 of the National Historic Preservation Act, and the Magnuson-Stevens Fishery Conservation and Management Act. All appropriate documentation (i.e., Section 7 and Section 106 coordination letters and public and agency comments) have been obtained and are included as part of the FEIS. In compliance with the Clean Air Act, a Draft Air Quality General Conformity Determination has been completed and is available in the FEIS for public comment. The USACE has preliminarily determined that the General Conformity Analysis prepared for the proposed Masonville Dredged Material Containment Facility (DMCF) dated November 17, 2006, with the compensation proposed, conforms to the General Conformity requirements of the Clean Air Act. A final determination will be made no sooner than thirty (30) days from the date of this notice. the decision on whether or not to issue a Department of the Army permit for this project will be based on an evaluation of the probable impact, including cumulative impacts, of the proposed activity on the public interest. That decision will reflect the national concern for both protection and utilization of important resources. The benefit, which may reasonably be expected to accrue from the proposal, will be balanced against it reasonably foreseeable detriments. All factors that may be relevant to the proposal are considered as part of the evaluation process. Factors relevant to the proposed project include: Conservation, economics, aesthetics, general environmental concerns, wetlands, cultural values, fish and wildlife values, flood hazards, floodplain values, land use, navigation, shoreline erosion and accretion, recreation, water supply and conservation, water and air quality, hazardous, toxic, and radioactive substances, threatened and endangered species, regional geology energy needs, food and fiber production, safety, environmental justice, cumulative impacts and the general needs and welfare of the public.

Vance G. Hobbs,
Chief, Maryland Section Northern.

[FR Doc. 07-2338 Filed 5-10-07; 8:45 am]

BILLING CODE 3710-41-M